ENVIRONMENTAL PROTECTION AGENCY

[EPA-HQ-SFUND-2014-0549; FRL-8990-01-OLEM; OMB Control Number 2050-0077]

Proposed Information Collection Request; Comment Request; Application for Reimbursement to Local Governments for Emergency Response to Hazardous Substance Releases Under the Comprehensive Environmental Response, Compensation, and Liability Act (CERCLA) Section 123 (Renewal)

AGENCY: Environmental Protection Agency (EPA).

ACTION: Notice.

SUMMARY: The Environmental Protection Agency (EPA) is planning to submit an information collection request (ICR), Application for Reimbursement to Local Governments for Emergency Response to Hazardous Substance Releases under the Comprehensive Environmental Response, Compensation, and Liability Act (CERCLA) Section 123 (Renewal) (EPA ICR Number 1425.12, OMB Control Number 2050-0077) to the Office of Management and Budget (OMB) for review and approval in accordance with the Paperwork Reduction Act. Before doing so, the EPA is soliciting public comments on specific aspects of the proposed information collection as described in Supplementary Information. This is a proposed extension of the ICR, which is currently approved through May 31, 2022. An Agency may not conduct or sponsor and a person is not required to respond to a collection of information unless it displays a currently valid OMB control number.

DATES: Comments must be submitted on or before January 4, 2022.

ADDRESSES: Submit your comments, referencing Docket ID No. EPA-HQ-SFUND-2014-0549 to: (1) EPA online using www.regulations.gov (our preferred method), by email to superfund.docket@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Brian Schlieger, Office of Emergency Management, Mail Code 5104A, Environmental Protection Agency, 1200 Pennsylvania Ave. NW, Washington, DC 20460; telephone number: (202) 564-3128; email address: schlieger.brian@epa.gov.

SUPPLEMENTARY INFORMATION: Supporting documents which explain in detail the information that EPA will be collecting are available in the public docket for this ICR. The docket can be viewed online at http://www.regulations.gov. Out of an abundance of caution for members of the public and our staff, the EPA Docket Center and Reading Room is closed to the public, with limited exceptions, to reduce the risk of transmitting COVID-19. Our Docket Center staff will continue to provide remote customer service via email, phone, and webform. For further information about the EPA's public docket, Docket Center services and the current status, please visit us online at https://www.epa.gov/dockets. The telephone number for the Docket Center is 202-566-1744.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The Agency requires applicants for reimbursement under this program authorized under Section 123 of CERCLA to submit an application that demonstrates consistency with program eligibility requirements. This is necessary to ensure proper use of the Superfund. EPA reviews the information to ensure compliance with all statutory and program requirements. The applicants are local governments who have incurred expenses, above and beyond their budgets, for hazardous substance response. Submission of this information is voluntary and to the applicant's benefit.

The burden estimates, numbers and types of respondents, wage rates and unit and total costs for this ICR renewal will be revised and updated, if needed, during the 60-day comment period while the ICR Supporting statement is undergoing review at OMB.

Form Numbers: 9310-1.

Respondents/affected entities: Entities potentially affected by this action are local governments that apply for reimbursement under this program.

Respondents' obligation to respond: voluntary (CERCLA Section 123).

Estimated total number of respondents: 20.

Frequency of response: On occasion.

Estimated total annual burden: 170 hours.

Estimated total annual costs: $4,392.80. This includes an estimated burden cost of $25.84/hour and there are no capital investment or maintenance and operational costs.

Changes in the estimates: Despite the increase in hourly rate, because the estimated total number of applications per year and the estimated burden hours per application have decreased, the overall burden has decreased by $602.20. The decrease in hours per application is because the form can be filled and submitted electronically.

Dated: October 28, 2021.
Donna K. Salyer,
Director, Office of Emergency Management.

[FR Doc. 2021-24288 Filed 11-4-21; 8:45 am]

BILLING CODE 6560-50-P